DEPARTMENT OF TRANSPORTATION

Federal Aviation Administration

14 CFR Part 39

[Docket No. FAA-2004-19809; Directorate Identifier 2003-NM-284-AD]

RIN 2120-AA64

Airworthiness Directives; McDonnell Douglas Model DC-9-10 Series Airplanes; Model DC-9-20 Series Airplanes; Model DC-9-30 Series Airplanes; Model DC-9-40 Series Airplanes; Model DC-9-50 Series Airplanes; Model DC-9-81 (MD-81), DC-9-82 (MD-82), DC-9-83 (MD-83), and DC-9-87 (MD-87) Airplanes; and Model MD-88 Airplanes

AGENCY: Federal Aviation Administration (FAA), DOT.

ACTION: Notice of proposed rulemaking (NPRM).

SUMMARY: The FAA proposes to supersede an existing airworthiness directive (AD) that applies to certain SAFT America Inc., P/N 021929-000 (McDonnell Douglas P/N 43B034LB02) and P/N 021904-000 (McDonnell Douglas P/N 43B034LB03) nickel cadmium batteries. The existing AD currently requires replacing all battery terminal screws, verifying that the battery contains design specification cells, and replacing the cells if the battery contains non-design specification cells. This proposed AD would require an inspection for certain nickel cadmium batteries and, if necessary, replacing battery terminal screws with new hex head bolts and adding shims. This proposed AD is prompted by a report of battery screws shearing off while under normal torque loads. We are proposing this AD to prevent internal shorting, arcing, and loss of emergency battery power due to failed battery screws, which could result in loss of emergency power to electrical flight components or other emergency power systems required in the event of loss of the aircraft primary power source.

DATES: We must receive comments on this proposed AD by January 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street, SW., Room PL-401, on the plaza level of the Nassif Building, Washington, DC.

FOR FURTHER INFORMATION CONTACT: Technical information: Daniel Bui, Aerospace Engineer, Systems and Equipment Branch, ANM-130L, FAA, Los Angeles Aircraft Certification Office, 3960 Paramount Boulevard, Lakewood, California 90712-4137; telephone (562) 627-5339; fax (562) 627-5210.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19809; Directorate Identifier 2003-NM-284-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On September 14, 1998, we issued AD 98-20-17, amendment 39-10784 (63 FR 50979, September 24, 1998), for certain SAFT America Inc., Part Number (P/N) 021929-000 (McDonnell Douglas P/N 43BO34LB02) and P/N 021904-000 (McDonnell Douglas P/N 43BO34LB03) nickel cadmium batteries manufactured prior to December 1997 that are installed on, but not limited to McDonnell Douglas Model DC-9 and MD-80 airplanes, all serial numbers. (Since the issuance of that AD, we have re-identified certain McDonnell Douglas airplane model designations to correlate with the most recent type certificate data sheets for the affected models.) That AD requires replacing all battery terminal screws, verifying that the battery contains design specification cells, and replacing the cells if the battery contains non-design specification cells. That AD was prompted by an incident where the cell screws on one of the affected batteries were exposed to chloride, which caused the heads of some fasteners to shear off and eventually resulted in the battery exploding. We issued that AD to prevent that type of occurrence, which could result in loss of emergency power to electrical flight components or other emergency power systems required in the event of loss of the aircraft primary power source.

Actions Since Existing AD Was Issued

Since we issued AD 98-20-17, we have received a report indicating that the main airplane battery screws that attach the link to individual battery cells were broken on a McDonnell Douglas Model DC-9-83 (MD-83) airplane. Investigation revealed that the screws failed to meet manufacturing quality specifications and resulted in the screw heads shearing off while under normal torque loads. We have also determined that the SAFT nickel cadmium batteries specified in the applicability of AD 98-20-17 are installed only on the McDonnell Douglas airplane models specified in the applicability of this NPRM, and cannot be installed on any other airplane model.

Relevant Service Information

We have reviewed Boeing Alert Service Bulletin (ASB) DC9-24A195, dated December 4, 2003. The ASB describes procedures for a visual inspection to determine if SAFT batteries having part number (P/N) 021904-000 (Type 43BO34LB03) or P/N 021929-000 (Type 43BO34LB02) are installed in the airplane and an inspection to determine the code date of the battery. For battery codes prior to May 2003, the ASB describes procedures to modify the batteries. The modification consists of replacing the screws in the battery with new hex head bolts and installing a shim. Accomplishing the actions specified in the service information is intended to adequately address the unsafe condition.

The ASB refers to SAFT Service Bulletin 01-02, Revision 2, dated August 11, 2003, as an additional source of service information for accomplishing the modification.

FAA's Determination and Requirements of the Proposed AD

We have evaluated all pertinent information and identified an unsafe condition that is likely to exist or develop on other products of this same type design. This proposed AD would supersede AD 98-20-17. This proposed AD would require accomplishing the actions specified in the service bulletin described previously.

Clarification of Applicability

The Planning Information section of the ASB does not specify Model DC-9-11, -12, -13, and -15F airplanes in the effectivity of the ASB. The manufacturer has advised us that those certain models are not currently in service. Although those models may not currently be in service, we have no verification that any of those airplanes could not be returned to service at a future date. Therefore, the applicability of the proposed AD includes those models.

Although the Planning Information section of the ASB does include a “DC-9-33” airplane, the proposed AD does not specify that airplane model in the applicability. The manufacturer has advised that the listing of model was inadvertently included in the ASB. The manufacturer plans to issue an Information Notice to remove the “DC-9-33” airplanes from the effectivity of the ASB.

Costs of Compliance

There are about 1,828 airplanes worldwide of the affected design. This proposed AD would affect about 1,087 airplanes of U.S. registry.

The proposed inspection to determine if certain SAFT batteries are installed would take about 1 work hour per airplane, at an average labor rate of $65 per work hour. Based on these figures, the estimated cost of the new actions specified in this proposed AD for U.S. operators is $70,655, or $65 per airplane.

Authority for This Rulemaking

The FAA's authority to issue rules regarding aviation safety is found in Title 49 of the United States Code. Subtitle I, section 106 describes the authority of the FAA administrator. Subtitle VII, Aviation Programs, describes in more detail the scope of the agency's authority.

This rulemaking is promulgated under the authority described in subtitle VII, part A, subpart III, section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10784 (63 FR 50979, September 24, 1998) and adding the following new airworthiness directive (AD):

McDonnell Douglas: Docket No. FAA-2004-19809; Directorate Identifier 2003-NM-284-AD.

Comments Due Date

(a) The Federal Aviation Administration must receive comments on this airworthiness directive (AD) action by January 28, 2005.

Affected ADs

(b) This AD supersedes AD 98-20-17, amendment 39-10784 (63 FR 50979, September 24, 1998).

Applicability

(c) This AD applies to McDonnell Douglas Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; Model DC-9-81 (MD-81), DC-9-82 (MD-82), DC-9-83 (MD-83), and DC-9-87 (MD-87) airplanes; and Model MD-88 airplanes; equipped with SAFT America Inc. nickel cadmium batteries having part number (P/N) 021929-000 or P/N 021904-000 that were manufactured before May 2003; certificated in any category.

Unsafe Condition

(d) This AD was prompted by a report of battery screws shearing off while under normal torque loads. We are issuing this AD to prevent internal shorting, arcing, and loss of emergency battery power due to failed battery screws, which could result in loss of emergency power to electrical flight components or other emergency power systems required in the event of loss of the aircraft primary power source.

Compliance

(e) You are responsible for having the actions required by this AD performed within the compliance times specified, unless the actions have already been done.

Inspection for SAFT Nickel Cadmium Battery

(f) Within 18 months of the effective date of this AD, perform a general visual inspection to determine if a nickel cadmium battery having P/N 021904-000 (Type 43BO34LB03) or P/N 021929-000 (Type 43BO34LB02) is installed, in accordance with Boeing Alert Service Bulletin (ASB) DC9-24A195, dated December 4, 2003.

(1) If neither P/N is installed, no further action is required by this paragraph.

(2) If either P/N is installed, before further flight, inspect the battery to determine if the battery code date is before May 2003, in accordance with the ASB.

(i) If the battery code is dated May 2003 or later, no further action is required by this paragraph.

(ii) If the battery code is dated before May 2003, before further flight, modify the battery in accordance with the ASB.

Note 1: For the purposes of this AD, a general visual inspection is “a visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Parts Installation

(g) As of the effective date of this AD, no person may install on any airplane a SAFT nickel cadmium battery having either P/N 021904-000 (Type 43B034LB03) or P/N 021929-000 (Type 43BO34LB02), unless the battery has been modified in accordance with this AD or the battery code is dated May 2003 or later.

Alternative Methods of Compliance (AMOCs)

(h) The Manager, Los Angles Aircraft Certification Office (ACO), FAA, has the authority to approve AMOCs for this AD, if requested in accordance with the procedures found in 14 CFR 39.19.

Issued in Renton, Washington, on December 1, 2004.
Ali Bahrami,
Manager, Transport Airplane Directorate, Aircraft Certification Service.

[FR Doc. 04-27327 Filed 12-13-04; 8:45 am]

BILLING CODE 4910-13-P